DEPARTMENT OF TRANSPORTATION

Federal Aviation Administration

14 CFR Part 39

[Docket No. 2003-NE-46-AD; Amendment 39-13557; AD 2004-07-13]

RIN 2120-AA64

Airworthiness Directives; General Electric Company CF6-80C2 Series Turbofan Engines; Correction

AGENCY: Federal Aviation Administration, DOT.

ACTION: Final rule; correction.

SUMMARY: This document makes a correction to Airworthiness Directive (AD) 2004-07-13. That AD applies to General Electric Company (GE) CF6-80C2 series turbofan engines. That AD was published in the Federal Register on April 1, 2004 (69 FR 17033). The amendatory text in the Applicability section is incorrect. This document corrects the aircraft models that these engines are installed on. In all other respects, the original document remains the same.

DATES: Effective Date: Effective April 1, 2004.

FOR FURTHER INFORMATION CONTACT: Karen Curtis, Aerospace Engineer, Aircraft Certification Office, FAA, Engine and Propeller Directorate, 12 New England Executive Park, Burlington, MA 01803; telephone (781) 238-7192; fax (781) 238-7199.

SUPPLEMENTARY INFORMATION: A final rule AD, FR Doc. 04-7235, that applies to General Electric Company (GE) CF6-80C2 series turbofan engines was published in the Federal Register on April 1, 2004 (69 FR 17033). The following correction is needed:

§ 39.13 [Corrected]

On page 17034, in the first column, in the Amendatory Section, Applicability paragraph (c), in the eighth line, “A300 and A330” is corrected to read “A300 and A310”.

Issued in Burlington, MA, on May 3, 2004.
Jay J. Pardee,
Manager, Engine and Propeller Directorate, Aircraft Certification Service.

[FR Doc. 04-10429 Filed 5-6-04; 8:45 am]

BILLING CODE 4910-13-P